FEDERAL COMMUNICATIONS COMMISSION

Information Collection Being Reviewed by the Federal Communications Commission

AGENCY: Federal Communications Commission.

ACTION: Notice and request for comments.

SUMMARY: The Federal Communications Commission, as part of its continuing effort to reduce paperwork burden invites the general public and other Federal agencies to take this opportunity to comment on the following information collection(s), as required by the Paperwork Reduction Act (PRA) of 1995. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before July 11, 2011. If you anticipate that you will be submitting PRA comments, but find it difficult to do so within the period of time allowed by this notice, you should advise the FCC contact listed below as soon as possible.

ADDRESSES: Direct all PRA comments to the Federal Communications Commission. To submit your PRA comments by e-mail send them to: PRA@fcc.gov (mailto:PRA@fcc.gov).

FOR FURTHER INFORMATION CONTACT: For additional information, contact Paul Laurenzano, 202-418-1359 or via the Internet at Paul.Laurenzano@fcc.gov.

SUPPLEMENTARY INFORMATION: OMB Control Number: 3060-0760.

Title: 272 Sunset Order, WC Docket No. 06-120; Access Charge Reform, CC Docket No. 96-262 (First Report and Order); Second Order on Reconsideration and Memorandum Opinion and Order, and Fifth Report and Order.

Form No.: N/A.

Type of Review: Extension of a currently approved collection.

Respondents: Business or other for-profit.

Number of Respondents: 17 respondents; 887 responses.

Estimated Time per Response: 3 hours-300 hours.

Frequency of Response: On occasion and one time reporting requirements.

Obligation to Respond: Required to obtain or retain benefits. Statutory authority for this information collection is contained in 47 U.S.C. sections 201-205 and 303(r).

Total Annual Burden: 28,835 hours.

Total Annual Cost: $736,760.

Privacy Act Impact Assessment: N/A.

Nature and Extent of Confidentiality: The Commission is not requesting that respondents submit confidential information to the FCC. Respondents may, however, request confidential treatment for information they believe to be confidential under 47 CFR 0.459 of the Commission's rules.

Needs and Uses: The Commission will submit this expiring information collection to the Office of Management and Budget (OMB) after this 60 day comment period in order to obtain the full three year clearance from them. The Commission is requesting OMB approval for an extension (no change in the reporting requirements). The Commission is reporting 1,513 hourly decrease adjustment in the total estimated burden hours and $36,160 increase adjustment in annual costs. These increase adjustments are due to an increase in the filing fee from $775 to $815; and correcting mathematical errors in the previous submission to the OMB.

The Commission provides detailed rules for implementing the market-based approach, pursuant to which price cap LECs receive pricing flexibility in the provision of interstate access services as competition for those services develops. Also, pursuant to the Section 272 Sunset Order, FCC 07-159, respondents are no longer required to comply with 47 U.S.C. 272 structural safeguards. As such, respondents must now file certifications with the Commission prior to providing contract tariff services to itself or to any affiliate that is neither a section 272 nor a rule section 64.1903 separate affiliate for use in the provision of any in-region, long distance services that it provides service pursuant to that contract tariff to an unaffiliated customer.

Federal Communications Commission.
Marlene H. Dortch,
Secretary, Office of the Secretary, Office of Managing Director.

[FR Doc. 2011-11692 Filed 5-12-11; 8:45 am]

BILLING CODE 6712-01-P